DEPARTMENT OF THE TREASURY

Submission for OMB Review; Comment Request

May 12, 2009.

The Department of Treasury will submit the following public information collection requirement(s) to OMB for review and clearance under the Paperwork Reduction Act of 1995, Public Law 104-13, on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 15, 2009 to be assured of consideration.

Bureau of Public Debt (BPD)

OMB Number: 1535-0136.

Type of Review: Revision.

Title: Application for Refund of Purchase Price of United States Savings Bonds for Organizations.

Forms: PD F 5410.

Description: Used by an organization to request refund or purchase of United States Savings Bonds.

Respondents: Businesses or other for-profits.

Estimated Total Burden Hours: 300 hours.

OMB Number: 1535-0055.

Type of Review: Revision.

Title: Creditors request for payment of Treasury Securities belonging to a decedent's estate being settled without administration.

Forms: PD F 1050.

Description: Used to obtain creditor's consent to dispose of securities of a deceased owner's estate without administration.

Respondents: Businesses or other for-profits.

Estimated Total Burden Hours: 150 hours.

OMB Number: 1535-0084.

Type of Review: Extension.

Title: Order for Series I/EE U.S. Savings Bonds and Order for Series I/EE U.S. Savings Bonds in name of fiduciary.

Forms: PD F 5263-1, PD F 5263, PD F 5374, PD F 5374-1.

Description: Completed by the purchaser to issue U.S. Savings Bonds.

Respondents: Individuals or Households.

Estimated Total Burden Hours: 830,000 hours.

OMB Number: 1535-0118.

Type of Review: Revision.

Title: Disposition of Securities Belonging to a Decedent's Estate Being Settled Without Administration.

Forms: PD F 5336.

Description: Used by person(s) entitled to a decedent's estate not being administered to request disposition of securities and/or related payments.

Respondents: Individuals or Households.

Estimated Total Burden Hours: 12,675 hours.

Clearance Officer: Judi Owens, (304) 480-8150, Bureau of the Public Debt, 200 Third Street, Parkersburg, West Virginia 26106.

OMB Reviewer: Shagufta Ahmed, (202) 395-7873, Office of Management and Budget, Room 10235, New Executive Office Building, Washington, DC 20503.

Celina Elphage,
Treasury PRA Clearance Officer.

[FR Doc. E9-11418 Filed 5-14-09; 8:45 am]

BILLING CODE 4810-39-P